SECURITIES AND EXCHANGE COMMISSION

File No. 500-1

In the Matter of Amico Games Corp., Andina Group Inc., Cougar Oil & Gas Canada Inc., Encorium Group, Inc., and Waccamaw Bankshares, Inc., Order of Suspension of Trading

August 6, 2014.

It appears to the Securities and Exchange Commission that there is a lack of current and accurate information concerning the securities of Amico Games Corp. because it has not filed any periodic reports since the period ended May 31, 2011.

It appears to the Securities and Exchange Commission that there is a lack of current and accurate information concerning the securities of Andina Group Inc. because it has not filed any periodic reports since the period ended March 31, 2011.

It appears to the Securities and Exchange Commission that there is a lack of current and accurate information concerning the securities of Cougar Oil & Gas Canada Inc. because it has not filed any periodic reports since the period ended December 31, 2010.

It appears to the Securities and Exchange Commission that there is a lack of current and accurate information concerning the securities of Encorium Group, Inc. because it has not filed any periodic reports since the period ended December 31, 2010.

It appears to the Securities and Exchange Commission that there is a lack of current and accurate information concerning the securities of Waccamaw Bankshares, Inc. because it has not filed any periodic reports since the period ended December 31, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 6, 2014, through 11:59 p.m. EDT on August 19, 2014.

By the Commission.
Kevin M. O'Neill,
Deputy Secretary.

[FR Doc. 2014-18914 Filed 8-6-14; 11:15 am]

BILLING CODE 8011-01-P